COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products and services previously furnished by such agencies.

EFFECTIVE DATE: May 18, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On June 28, December 27, 2002, and February 14, 2003, the Committee for Purchase From People Who Are Blind or Severely Disabled published notice (67 FR 43548, 79044, and 68 FR 7499) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services added to the Procurement List.

Accordingly, the following services are added to the Procurement List:

Services

Service Type/Location: Custodial Service, Naval & Marine Corps Reserve Center, St. Louis, Missouri.

NPA: MGI Services Corporation, St. Louis, Missouri.

Contract Activity: Naval Facilities Engineering Command, Crane, Indiana.

Service Type/Location: Family Housing Maintenance, Sheppard Air Force Base, Texas.

NPA: Work Services Corporation, Wichita Falls, Texas.

Contract Activity: USAF-Air Education and Training Command, Sheppard AFB, Texas.

Service Type/Location: Janitorial/Custodial, Herbert Hoover Library, West Branch, Iowa.

NPA: Goodwill Industries of Southeast Iowa, Iowa City, Iowa.

Contract Activity: National Archives & Records Administration, College Park, Maryland.

Service Type/Location: Mailroom Operation. Social Security Administration, Sam Nunn Federal Building, Atlanta, Georgia.

NPA: Nobis Enterprises, Inc., Marietta, Georgia.

Contract Activity: Social Security Administration, Region IV, Atlanta, Georgia.

Deletions

On February 14, and February 24, 2003, the Committee for Purchase From People Who Are Blind or Severely Disabled published notice (68 F.R. 7499, and 8585) of proposed deletions to the Procurement List.

After consideration of the relevant matter presented, the Committee has determined that the products and services listed below are no longer suitable for procurement by the Federal Government under 41 U.S.C. 46-48c and 41 CFR 51-2.4.

I certify that the following action will not have a significant impact on a substantial number of small entities. The major factors considered for this certification were:

1. The action may not result in any additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

Accordingly, the following products and services are deleted from the Procurement List:

Products

Product/NSN: Index Sheet Set, Looseleaf Binder, 7530-00-160-8474.

NPA: Louisiana Association for the Blind, Shreveport, Louisiana.

Contract Activity: Office Supplies & Paper Products Acquisition Center, New York, New York.

Product/NSN: Seal, Metallic, 5340-00-491-7632, 5340-00-902-0426.

NPA: Michiana Resources, Inc, Michigan City, Indiana.

Contract Activity: Defense Supply Center Philadelphia, Philadelphia, Pennsylvania.

Services

Service Type/Location: Commissary Shelf Stocking, Point Mugu Naval Air Station, California.

NPA: Association for Retarded Citizens—Ventura County, Inc., Ventura, California.

Contract Activity: Defense Commissary Agency, Fort Lee, Virginia.

Service Type/Location: Commissary Shelf Stocking & Custodial, Fort Shafter, Hawaii.

NPA: Goodwill Industries of Hawaii, Inc., Honolulu, Hawaii.

Contract Activity: Defense Commissary Agency, Fort Lee, Virginia.

Service Type/Location: Commissary Shelf Stocking & Custodial. Presidio of San Francisco Commissary, San Francisco, California.

NPA: Calidad Industries, Inc., Oakland, California.

Contract Activity: Defense Commissary Agency, Fort Lee, Virginia.

Service Type/Location: Drill Sharpening, Naval Supply Center, San Diego, California.

NPA: The ARC of San Diego, San Diego, California.

Contract Activity: Department of the Navy, San Diego, California.

Service Type/Location: Janitorial/Custodial, Mare Island Naval Shipyard, Vallejo, California.

NPA: V-Bar Enterprises, Inc., Suisun City, California.

Contract Activity: Department of the Navy, Vallejo, California.

Service Type/Location: Janitorial/Custodial, Veterans Affairs Community Based Outpatient Clinic, St. George, Utah.

NPA: Washington County Association for Retarded Citizens, St. George, Utah.

Contract Activity: Department of Veterans Affairs, St. George, Utah.

Sheryl D. Kennerly,
Director, Information Management.

[FR Doc. 03-9627 Filed 4-17-03; 8:45 am]

BILLING CODE 6353-01-P